DEPARTMENT OF AGRICULTURE

Forest Service

The Manti-La Sal National Forest, Sanpete Ranger District, Utah, Sunroc Gypsum Surface Mine Plan of Operation

AGENCY: Forest Service, USDA.

ACTION: Notice of intent to prepare an environmental impact statement.

SUMMARY: Sunroc Corporation has submitted a Plan of Operations (the Plan) proposing continued gypsum surface mining operations in the Chicken Creek East and Chicken Creek West mines and proposes opening another pit on it's existing adjacent claims. The location of the mine is in Juab County, Utah, approximately 2 miles east of the town of Levan in portions of Section(s) 33 and 34, T14S, R1E, and Section 4, T15S, R1E, SLB&M. In response, the Manti LaSal National Forest is preparing an Environmental Impact Statement to analyze the environmental effect of the proposed Plan and determine whether to approve the Plan as proposed or to require additional mitigation measures to protect the environment.

DATES: Comments concerning the scope of the analysis must be received by 30 days after the publication of the NOI. The draft environmental impact statement is expected November, 2008 and the final environmental impact statement is expected January, 2009.

ADDRESSES: Send written comments to Rod Player, Acting Forest Supervisor, Manti LaSal National Forest, 599 West Price River Drive, Price, Utah 84501.

For further information, mail correspondence to Tom Lloyd, Team Leader, by mail: Box 310, Ferron, Utah 84523.

FOR FURTHER INFORMATION CONTACT: To Tom Lloyd, Team Leader by mail: Box 310, Ferron, Utah, 84523. The Plan of Operation is available for public review (36 CFR 228.6) at the District Ranger's Office, 540 North Main, Ephraim, Utah 84627-1117.

Purpose and Need for Action

Sunroc Corporation has submitted a Plan of Operations for continued mining in the Chicken Creek East and Chicken Creek West mines and proposed mining in the Upper Chicken Creek West area. The purpose of this EIS is to provide a timely evaluation of the environmental impacts of the proposed plan of operation and determine whether to approve the Plan as proposed or to require additional mitigation measures to protect the environment (in accordance with Forest Service regulations for locatable minerals).

The need for action is to allow Sunroc Corporation to exercise their rights under U.S. mining laws. Sunroc has a right to develop its claims as set forth by the General Mining Law of 1872 as amended. These laws provide that the public has a statutory right to conduct prospecting, exploration, and development activities (1872 Mining Law and 1897 Organic Act), provided they are reasonably incident (1955 Multiple Use Mining Act and case law) to mining and comply with other federal laws.

The Forest Service has the responsibility to protect surface resources. Mining regulations state that “operations shall be conducted so as, where feasible, to minimize adverse environmental effects on Nation Forest System surface resources (36 CFR 228.8)” provided such regulation does not endanger or materially interfere with prospecting, mining, or processing operations or reasonably incident uses (1955 Multiple Use Mining Act and case law).

Proposed Action

The proposed federal action is to approve Sunroc Corporation's Plan of Operation with mitigations needed to protect other non-mineral surface resources consistent with Forest Plan, regulations, and other applicable laws.

Possible Alternatives

1. No Action, 2. Approve the Plan as presented, 3. Approve the Plan as presented by Sunroc Corporation, with stipulations necessary to protect the non-mineral resources of the area.

Responsible Official

Rod Player, Acting Forest Supervisor, Manti LaSal National Forest, 599 West Price River Drive, Price, Utah 84501.

Nature of Decision To Be Made

The federal action being considered in this environmental analysis is the Forest Service decision to approve the proposed Plan as submitted, or to decide what additional mitigations are needed to protect other resources as provided for in 36 CFR 228.8.

Scoping Process

Scoping will include NOI to Federal Register, listing in the Quarterly Schedule of Proposed Actions, letters to interested and affected individuals, agencies, and organizations, and legal notices. No public meeting is planned.

Preliminary Issues

Some of the proposed mining area is in inventoried roadless area, in key winter range, and the proposed disturbance does not meet visual quality objectives of the Forest Plan.

Permits or Licenses Required

The approved Plan of Operation authorizes mining. Operations must be consistent with Forest Service Conditions of Approval, and other applicable laws and regulations.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: July 21, 2008.
Rod Player,
Acting Forest Supervisor.

[FR Doc. E8-17667 Filed 7-31-08; 8:45 am]

BILLING CODE 3410-11-P